DEPARTMENT OF HEALTH AND HUMAN SERVICES

Centers for Disease Control and Prevention

Exotic Animal Importation, Sale, and Distribution Discussions; Notice of Public Meeting

AGENCY: Centers for Disease Control and Prevention, Department of Health and Human Services.

ACTION: Notice of public meeting.

SUMMARY: This notice announces a public meeting on the subject of the importation, sale, and distribution of exotic animals. The purpose of the meeting is to gather information and discuss issues and concerns related to infectious disease threats associated with the importation, sale, and distribution of exotic animals.

DATES: The public meeting will be held May 18, 2006, from 1 p.m. to 5 p.m. in Decatur, Georgia. Registration will begin at 12 p.m.

ADDRESSES: The public meeting will be held at the following location: Holiday Inn Decatur Conference Plaza, 130 Clairemont Ave., Decatur, GA 30030.

Persons who are unable to attend the meeting may e-mail, fax, or mail their comments to: Attn: Kelly Crossett, kcrossett@constellagroup.com; fax 919-544-7507; Constella Group LLC, 2605 Meridian Parkway, Durham, NC 27713; Written comments regarding the subject of this meeting that are received by May 18, 2006 will receive the same consideration as statements made at the public meeting.

FOR FURTHER INFORMATION CONTACT: Attn: Kelly Crossett, telephone 919-313-7615; kcrossett@constellagroup.com; fax 919-544-7507; Constella Group LLC, 2605 Meridian Parkway, Durham, NC 27713.

SUPPLEMENTARY INFORMATION:

Participation at the Public Meeting

Submit requests to present a statement at the public meeting to the contact listed in the section titled FOR FURTHER INFORMATION CONTACT. The CDC should receive your requests to present oral statements at the public meeting no later than 10 days prior to the meeting. Include a written summary of oral remarks you would like to present and the estimated time needed for your presentation. A maximum of 15 minutes per speaker will be permitted. Requests received after the date specified above will be scheduled during the meeting if time allows; however, the names of those individuals may not appear on the written agenda. The CDC will prepare an agenda of speakers available at the meeting. To accommodate as many speakers as possible, the amount of time allocated to each speaker may be less than the estimated 15 minute maximum. Those persons desiring to have audiovisual equipment available should notify the CDC when they request placement on the agenda. All statements submitted during the meeting will be considered part of the public record.

Background

Zoonoses are diseases that can be transmitted from animals to people, and prevention of zoonoses in humans poses special challenges and requires consideration of the role of exotic animals in disease transmission. Wild exotic animals may carry a variety of known and emerging zoonotic pathogens. The 2003 outbreak of monkeypox in the United States, which involved 37 confirmed human cases, ultimately traced back to the importation of African rodents, and illustrates the special risk associated with keeping wild animals as pets. CDC's regulations regarding the importation of African rodents may be found at 42 CFR 71.56. In addition, CDC has issued orders prohibiting the introduction into the United States of birds from countries where highly pathogenic avian influenza H5N1 subtype is present and civets. These actions were taken to prevent the introduction of monkeypox, avian influenza, and SARS-coronavirus into the United States. However, these actions may not fully protect the general public against the entry of zoonotic diseases because they are limited to specific species.

The American Veterinary Medical Association (AVMA), the Council of State and Territorial Epidemiologists (CSTE), and the National Association of State Public Health Veterinarians (NASPHV) have issued position statements calling for CDC to coordinate a meeting to address the issue of infectious disease risks associated with the importation of exotic animals. This meeting will invite discussion from several federal agencies with regulatory oversight of animals, interested stakeholders (including AVMA, CSTE, and NASPHV), and the general public regarding infectious disease threats related to exotic animal importation, sale, and distribution. The public meeting will be used as a forum to share information, answer questions, and discuss potential solutions concerning infectious disease risks associated with exotic animal importation, sale, and distribution.

Public Meeting Procedures

The following procedures for this meeting are as follows:

1. Admission and participation in the public meeting are free. The meeting will be open to all persons who have requested in advance to present statements or who register on the day of the meeting (between 12 p.m. and 1 p.m.).

2. Representatives from the CDC will conduct the public meeting. A panel of Federal personnel and representatives from veterinary and public health organizations will discuss information presented by participants.

3. The public meeting is intended as a forum to share information and answer questions concerning infectious disease risks associated with the importation, sale, and distribution of exotic animals. Participants must limit their presentations to the issue of exotic animal importation, sale, and distribution.

4. All interested parties will have the opportunity to present any information on the topic they want to be available to CDC and other Federal partners. The CDC and other federal partners will then have the opportunity to explain the methodology and technical assumptions supporting its current observations.

5. Federal staff, representatives from public health and veterinary organizations, and public participants may engage in a full discussion of all technical material presented at the meeting. Anyone presenting conclusions will be expected to submit their supporting data to the CDC.

6. The CDC will try to accommodate all speakers. A maximum of 15 minutes will be allow ed for each speaker. Time may be additionally limited for each presentation, depending on the number of speakers.

7. Sign interpretations will be made available at the meeting, including assistive listening devices, if requested 15 calendar days before the meeting.

8. Proceedings of the meeting will be recorded and a summary will be posted in the Federal Register.

9. The CDC will review and consider all material presented by participants at the public meeting. Position papers or material presenting views or information related to the subject of the meeting may be accepted. The CDC requests that persons participating in the meeting provide 10 copies of all materials to be presented for distribution to the panel members; other copies may be provided to the audience at the discretion of the participant.

10. Statements made by CDC personnel and other federal personnel are intended to facilitate discussion of the issues or to clarify issues. Such statements should not be interpreted as providing legal, professional, or other advice.

11. The meeting is designed to share information and solicit individual views from the public and additional information. The meeting will not operate in consensus fashion. The meeting will be conducted in an informal and non-adversarial manner. All statements submitted during the meeting will be considered part of the public record.

Dated: April 12, 2006.
James D. Seligman,
Chief Information Officer, Centers for Disease Control and Prevention.

[FR Doc. E6-5926 Filed 4-19-06; 8:45 am]

BILLING CODE 4163-18-P